FEDERAL COMMUNICATIONS COMMISSION

47 CFR Part 73

[DA 01-2211]

Radio Broadcasting Services; Various Locations

AGENCY: Federal Communications Commission.

ACTION: Final rule.

SUMMARY: The Commission, on its own motion, editorially amends the Table of FM Allotments to specify the actual classes of channels allotted to various communities. The changes in channel classifications have been authorized in response to applications filed by licensees and permittees operating on these channels. This action is taken pursuant to Revision of Section 73.3573(a)(1) of the Commission's Rules Concerning the Lower Classification of an FM Allotment, 4 FCC Rcd 2413 (1989), and the Amendment of the Commission's Rules to permit FM Channel and Class Modifications [Upgrades] by Applications, 8 FCC Rcd 4735 (1993).

DATES: Effective October 4, 2001.

FOR FURTHER INFORMATION CONTACT: Kathleen Scheuerle, Mass Media Bureau, (202) 418-2180.

SUPPLEMENTARY INFORMATION: This is a summary of the Commission's Report and Order, adopted September 12, 2001, and released September 21, 2001. The full text of this Commission decision is available for inspection and copying during regular business hours at the FCC Reference Information Center, Portals II, 445 12th Street, SW, Room CY-A257, Washington, DC, 20554. This document may also be purchased from the Commission's duplicating contractor, Qualex International, Portals II, 445 12th Street, SW, Room CY-B402, Washington, DC, 20554, telephone 202-863-2893, facsimile 202-863-2898, or via e-mail qualexint@aol.com.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Alabama, is amended by removing Channel 264C3 and adding Channel 263C1 at Northport.

3. Section 73.202(b), the Table of FM Allotments under American Samoa, is amended by removing Channel 230C1 and adding Channel 284A at Leone.

4. Section 73.202(b), the Table of FM Allotments under Arizona, is amended by removing Channel 223C1 and adding Channel 223C0 at Eagar.

5. Section 73.202(b), the Table of FM Allotments under Colorado, is amended by removing Channel 222C2 and adding Channel 222A at Holyoke.

6. Section 73.202(b), the Table of FM Allotments under Michigan, is amended by removing Channel 268A and adding Channel 268C2 at Gaylord.

7. Section 73.202(b), the Table of FM Allotments under Mississippi, is amended by removing Channel 238C and adding Channel 238C0 at Jackson.

8. Section 73.202(b), the Table of FM Allotments under Nebraska, is amended by removing Channel 252A and adding Channel 252C3 at Broken Bow.

9. Section 73.202(b), the Table of FM Allotments under New Mexico, is amended by removing Channel 249A and adding Channel 248C1 at Raton.

10. Section 73.202(b), the Table of FM Allotments under Texas, is amended by removing Channel 255C1 and adding Channel 255C2 at Leander.

11. Section 73.202(b), the Table of FM Allotments under Virginia, is amended by removing Channel 291A and adding Channel 291B at Exmore.¹

¹ On July 11, 2001, the authorization for Channel 291B1, Exmore, Virginia, was amended by a one-step application to specify Channel 291A in lieu of Channel 291B1. See 66 FR 39453, July 31, 2001.

12. Section 73.202(b), the Table of FM Allotments under Wyoming, is amended by removing Channel 287C2 and adding Channel 287A at Pine Bluffs.

Federal Communications Commission.
John A. Karousos,
Chief, Allocations Branch, Policy and Rules Division, Mass Media Bureau.

[FR Doc. 01-24864 Filed 10-3-01; 8:45 am]

BILLING CODE 6712-01-P